ENVIRONMENTAL PROTECTION AGENCY

[EPA-HQ-OAR-2008-0410; FRL-8568-5]

Proposed Approval of the Central Characterization Project's Remote-Handled Waste Characterization Program at Savannah River Site

AGENCY: Environmental Protection Agency.

ACTION: Notice of availability; opening of public comment period.

SUMMARY: The Environmental Protection Agency (EPA or we) is announcing the availability of, and soliciting public comments for 45 days on, the proposed approval of the radioactive, remote-handled (RH), transuranic (TRU) waste characterization program implemented by the Central Characterization Project (CCP) at Savannah River Site (SRS). This waste, which originated from the Battelle Columbus Laboratory (BCL), is intended for disposal at the Waste Isolation Pilot Plant (WIPP) in New Mexico.

In accordance with the WIPP Compliance Criteria, EPA evaluated the characterization of RH TRU debris waste from SRS-CCP during a baseline inspection (and follow-up inspections) conducted the weeks of July 17-19, 2007, July 31—August 2, 2007, and December 4-5, 2007. Using the systems and processes developed as part of the U.S. Department of Energy's (DOE's) Carlsbad Field Office (CBFO) program to characterize RH TRU waste, EPA verified whether DOE could adequately characterize RH TRU waste consistent with the Compliance Criteria. The results of EPA's evaluation of the SRS-CCP program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments, and a final report and approval letter to DOE.

DATES: Comments must be received on or before July 7, 2008.

ADDRESSES: Submit your comments, identified by Docket ID No. EPA-HQ-OAR-2008-0410, by one of the following methods:

• http://www.regulations.gov: Follow the on-line instructions for submitting comments.

• E-mail: to a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2008-0410. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD--ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available electronically at http://www.regulations.gov. As provided in EPA's regulations at 40 CFR Part 2, and in accordance with normal EPA docket procedures, if hard copies of any docket materials are requested, a reasonable fee may be charged for photocopying.

FOR FURTHER INFORMATION CONTACT: Rajani Joglekar or Ed Feltcorn, Radiation Protection Division, Center for Federal Regulations, Mail Code 6608J, U.S. Environmental Protection Agency, 1200 Pennsylvania Avenue, Washington, DC, 20460; telephone number: 202-343-9601; fax number: 202-343-2305; e-mail address: joglekar.rajani@epa.gov or feltcorn.ed@epa.gov.

SUPPLEMENTARY INFORMATION:

I. General Information

A. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. No. 102-579), as amended (Pub. L. No. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA announced its final compliance certification decision to the Secretary of Energy (published May 18, 1998, 63 FR 27354). This decision stated that the WIPP will comply with EPA's radioactive waste disposal regulations at 40 CFR part 191, subparts B and C.

The final WIPP certification decision includes conditions that (1) prohibit shipment of TRU waste for disposal at WIPP from a site until EPA has approved the procedures developed to comply with the waste characterization requirements of § 194.22(c)(4) (Condition 3 of appendix A to 40 CFR part 194). The EPA's approval process for waste generator sites is described in § 194.8 (revised July 2004).

Condition 3 of the WIPP Certification Decision requires EPA to conduct independent inspections at DOE's waste generator/storage sites of their TRU waste characterization capabilities before approving their program and the waste for disposal at the WIPP. EPA's inspection and approval process gives EPA (a) discretion in establishing technical priorities, (b) the ability to accommodate variation in the site's waste characterization capabilities, and (c) flexibility in scheduling site WC inspections.

As described in section 194.8(b), EPA's baseline inspections evaluate each WC process component (equipment, procedures, and personnel training/experience) for its adequacy and appropriateness in characterizing TRU waste destined for disposal at WIPP. During an inspection, the site demonstrates its capabilities to characterize TRU waste(s) and its ability to comply with the regulatory limits and tracking requirements under § 194.24. A baseline inspection may describe any limitations on approved waste streams or waste characterization processes [§ 194.8(b)(2)(iii)]. In addition, a baseline inspection approval must specify what subsequent WC program changes or expansion should be reported to EPA [§ 194.8(b)(4)]. The Agency is required to assign Tier 1 (T1) and Tier 2 (T2) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the WC processes EPA inspected at the site, as well as their compliance with § 194.24 requirements.

EPA previously issued a preliminary approval of DOE's general framework for characterizing RH waste on March 26, 2004 (Docket A-98-49, Item II-B2-21). This approval requires DOE to provide site-specific RH waste characterization plans and characterization procedures for EPA approval prior to implementing them for characterizing RH waste.

III. Proposed Baseline Compliance Decision

EPA has performed a baseline inspection of RH TRU waste characterization activities at SRS-CCP (EPA Inspection No. EPA-SRS-CCP-RH-7.07-8). The purpose of EPA's inspection was to verify that the RH waste characterization program implemented at SRS-CCP for characterizing RH TRU, retrievably-stored, debris waste is adequate. The waste characterized by the SRS-CCP is RH debris waste from the demolition of a hot cell laboratory at Battelle Columbus Laboratory (BCL) that was shipped to SRS for characterization prior to disposal at WIPP. EPA evaluated whether this RH waste meets the regulatory characterization requirements at 40 CFR 194.24.

The inspection's sole focus was to evaluate the records that had been assembled to document RH TRU waste characterization activities, including recently performed modeling, interpretation, and additional calculations based on previously generated measurement data for Battelle Columbus Laboratory Demolition Project (BCLDP) RH debris Waste Stream No. SR-RL-BCLDP.001. Like the RH debris waste in 16 canisters from LANL that EPA approved in February 2008 (see Air Docket No. A-98-49, II-A4-89), this is a discrete waste stream. There will be no further waste generation and characterization activities relative to this waste. This proposed approval, hence, is directed to a discrete set of 87 drum liners within this RH debris waste stream that are currently stored at SRS, as supported by the documentation the EPA inspection team evaluated during this inspection.

Although these wastes are currently stored at SRS, the waste generation and characterization activities covered by this proposed approval were performed at the BCLDP, as stated previously. This proposed approval is limited to RH debris waste from BCLDP only. Note that this is a retrospective approval of the RH debris waste from BCLDP, and no additional RH debris waste from BCLDP remains to be characterized for WIPP disposal. Any BCLDP-related RH waste that SRS-CCP may characterize upon the approval of WC activities discussed in this report will require EPA approval as a Tier 1 (T1) change. Upon approval of the RH TRU waste characterization processes discussed in this report, if SRS-CCP embarks on characterizing RH waste other than that generated at BCLDP for WIPP disposal, a separate baseline inspection and approval will be necessary. That is, any SRS RH waste destined for WIPP disposal characterized by SRS-CCP or another program remains subject to EPA's baseline inspection and approval.

The purpose of the SRS-CCP RH WC inspection was to evaluate the adequacy of the site's WC programs for 87 drum liners in a single RH debris waste stream for disposal at WIPP. The 87 drum liners of RH debris in this waste stream were generated from the decontamination and decommissioning (D&D) of the Building JN-1 Hot Cell Laboratory at the Jefferson North facility, which operated from 1955 until D&D began in 1988, under the BCLDP. (See page 8 for additional details of the waste generation in Section 8.0 of the inspection report found in EPA Docket ID EPA-HQ-OAR-2008-0410.)

The EPA inspection team identified one finding during the July 2007 inspection (see Attachment A of the inspection report found in EPA Docket ID EPA-HQ-OAR-2008-0410). SRS-CCP revised specific documents to address the finding and submitted them for EPA review following the initial July inspection. The EPA inspection team reviewed the revised documents and subsequently met with SRS-CCP personnel in December 2007 to discuss the changes to WC documents addressing the EPA finding and examine additional objective evidence. Upon completing their reviews, the EPA inspection team determined that the revised documents adequately addressed all aspects of the EPA finding. Accordingly, EPA has determined that the records documenting SRS-CCP's RH WC program represented activities that were technically adequate and the finding has been resolved. EPA, therefore, is proposing to approve the SRS-CCP RH WC program for the 87 RH TRU drum liners in SRS RH Waste Stream No. SR-RL-BCLDP.001 evaluated during this baseline inspection that is described and documented in the accompanying baseline inspection report. This approval includes the following:

(1) The acceptable knowledge (AK) process for the 87 drum liners of RH retrievably-stored TRU debris in the waste stream designated Waste Stream No. SRS-RL-BCLDP.001 currently stored at the TRU storage pads in the E Area of SRS.

(2) The radiological characterization (RC) process using dose-to-curie (DTC) and modeling-derived scaling factors, supported by radionuclide data from the analysis of 69 swipe samples, for assigning radionuclide values to 87 drum liners of RH retrievably-stored TRU debris in one waste stream, designated as SRS-RL-BCLDP.001, that is documented in CCP-AK-LANL-501, Revision 2, and detailed in the inspection report found in EPA Docket ID EPA-HQ-OAR-2008-0410.

(3) The visual examination (VE) process to identify Waste Material Parameters and the physical form of the waste.

(4) The WIPP Waste Information System (WWIS) to submit data for both characterization and certification to WWIS for RH TRU waste.

(5) The attainment of pertinent Data Quality Objectives (DQOs).

Since no additional WC activities are expected to occur relative to the 87 drum liners of RH debris waste, no changes to the WC activities evaluated during the baseline inspection are anticipated. EPA, therefore, does not expect SRS-CCP to make additional revisions to the documents that were reviewed as part of this inspection and proposed approval limited to the WC processes specific to the 87 drum liners evaluated during the July, August, and December 2007 inspections. In the event that SRS-CCP makes changes to the WC components proposed for approval or implements them to characterize additional waste from the BCLDP activity (e.g., solids or soil/gravel) associated with D&D activities at Building JN-1 at the Battelle Columbus Laboratory, EPA will consider changes that have the potential to affect WC activities to be Tier 1 (T1) changes, as stated above. The inspection report does not list specific T1 or Tier 2 (T2) designations relative to these 87 waste liners and the WC components proposed for the approval at this time.

IV. Availability of the Baseline Inspection Report for Public Comment

EPA has placed the report discussing the results of the Agency's inspection of SRS-CCP in the public docket as described in ADDRESSES. In accordance with 40 CFR 194.8, EPA is providing the public 45 days to comment on these documents. The Agency requests comments on the proposed approval decision, as described in the inspection report. EPA will accept public comment on this notice and supplemental information as described in Section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at three EPA WIPP informational docket locations in Carlsbad, Santa Fe, and Albuquerque, New Mexico. The dockets in New Mexico contain only major items from the official Air Docket in Washington, DC, plus those documents added to the official Air Docket since the October 1992 enactment of the WIPP LWA.

Dated: May 9, 2008.
Elizabeth Cotsworth,
Director, Office of Radiation and Indoor Air.

[FR Doc. E8-11381 Filed 5-20-08; 8:45 am]

BILLING CODE 6560-50-P